DEPARTMENT OF TRANSPORTATION

Federal Transit Administration

[FTA Docket No. FTA-2015-0005]

Agency Information Collection Activity Under OMB Review

AGENCY: Federal Transit Administration, DOT.

ACTION: Notice of request for comments.

SUMMARY: The Federal Transit Administration invites public comment about its intention to request the Office of Management and Budget's (OMB) approval to renew the following information collection:

49 U.S.C. 5320 Paul S. Sarbanes Transit in Parks Program

The information collected is necessary to determine eligibility of applicants and ensure the proper and timely expenditure of federal funds within the scope of the program. The Federal Register notice with a 60-day comment period soliciting comments for the Paul S. Sarbanes Transit in Parks Program was published on December 29, 2014 (Citation 79 FR 248). No comments were received from that notice.

DATES: Comments must be submitted before April 16, 2015. A comment to OMB is most effective, if OMB receives it within 30 days of publication.

FOR FURTHER INFORMATION CONTACT: Tia Swain, Office of Administration, Office of Management Planning, (202) 366-0354.

SUPPLEMENTARY INFORMATION: Title: 49 U.S.C. 5320 Paul S. Sarbanes Transit in Parks Program (OMB Number: 2132-0574).

Abstract: This collection involves FTA's Paul S. Sarbanes Transit in Parks Program. This program is necessary because it addresses the challenge of increasing traffic pollution and crowding in and around our National parks and other federal lands. To address these concerns, this program has provided more than $163 million in funding for alternative transportation systems, such as shuttle buses, rail connections and even bicycle trails. On October 1, 2013, the Paul S. Sarbanes Transit in Parks Program was repealed by Congress under the Moving Ahead for Progress in the 21st Century Act (MAP-21). However, to meet federal program oversight responsibilities, FTA must continue to collect information under the program management stage until the period of availability expires; the funds are fully expended; the funds are rescinded by Congress; or the funds are otherwise reallocated.

Estimated Total Annual Burden: 370 hours.

ADDRESSES: All written comments must refer to the docket number that appears at the top of this document and be submitted to the Office of Information and Regulatory Affairs, Office of Management and Budget, 725—17th Street NW., Washington, DC 20503, Attention: FTA Desk Officer.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Matthew M. Crouch,
Associate Administrator for Administration.

[FR Doc. 2015-05967 Filed 3-16-15; 8:45 am]

BILLING CODE 4910-57-P